DEPARTMENT OF LABOR

Employment and Training Administration

Workforce Investment Act (WIA) Section 167, the National Farmworker Jobs Program (NFJP), and Housing Assistance Grants

AGENCY: Employment and Training Administration (ETA), Department of Labor.

ACTION: Notice of formula allocations for the Program Year (PY) 2003 National Farmworker Jobs Program (NFJP), and for the Housing Assistance Grants; request for comments.

SUMMARY: Under section 182(d) of the Workforce Investment Act (WIA) of 1998, ETA is publishing the PY 2003 allocations for the NFJP authorized under section 167 of the WIA, and for the housing assistance grants authorized by the Consolidated Appropriations Resolution, 2003 (Pub. L. 108-7). The NFJP program allocations are distributed to the states by a formula that estimates, by state, the relative demand for NFJP services. The housing assistance allocations are distributed among the 12 agricultural regions established for the National Agricultural Worker Survey (NAWS). The allocations in this notice apply to the Program Year (PY) beginning July 1, 2003.

DATES: Comments must be submitted on or before May 31, 2003.

ADDRESSES: Comments should be submitted to Ms. Alina M. Walker, Acting Chief, Division of Seasonal Farmworker Programs, Room C-5325, Employment and Training Administration, U.S. Department of Labor, 200 Constitution Avenue, NW., Washington, DC 20210. The e-mail address is walker.alina@dol.gov.

FOR FURTHER INFORMATION CONTACT: Ms. Alina M. Walker, Acting Chief, Division of Seasonal Farmworker Programs, Room C-5325, Employment and Training Administration, U.S. Department of Labor, 200 Constitution Avenue, NW., Washington, DC 20210. The telephone number is (202) 693-2706. (This is not a toll-free number.)

SUPPLEMENTARY INFORMATION: I. Background. On May 19, 1999, we published a notice of formula allocations with a new formula for allocating funds available for the NFJP (formerly referred to as the section 402 Migrant and Seasonal Farmworker (MSFW) Program) in the Federal Register at 64 FR 27390 (May 19, 1999). The notice explained how the new formula achieved its purpose of distributing funds geographically by state service area on the basis of each area's relative share of farmworkers who are eligible for enrollment in the NFJP. The new formula consists of a rational combination of multiple data sets that were selected to yield the relative share distribution of eligible farmworkers. The combined-data formula is substantially more relevant to the purpose of aligning the allocations with the eligible population than the allocations determined by the prior formula.

As stated in our notice of May 19, 1999, PY 2003 is the first year the allocation formula is scheduled to be applied without adjustment for the hold-harmless provisions described in section IV of the notice. However, as explained in section III of this notice, the Consolidated Appropriations Resolution, 2003 (Pub. L. 108-7) requires that no area receive less than 85% of its 1998 level. Section III also explains the methodology used for PY 2003 to allocate all funds under the formula that are not required to satisfy the 85% requirement. This methodology produces a more equitable result than the one applied for each of the 4 years of the hold-harmless phase. The methodology under the hold-harmless phase funded all states at their required minimum level before allocating the remaining funds in accordance with the formula. One result of this change is that the Rhode Island area is allocated its full share in PY 2003.

II. Limitations on Uses of Section 167 Funds. In appropriating the funds for PY 2003, Congress provided in its Consolidated Appropriations Resolution, 2003 (Pub. L. 108-7) as follows: “That, notwithstanding any other provision of law or related regulation, $77,836,000 shall be for carrying out section 167 of the Workforce Investment Act of 1998, including $72,686,000 for formula grants, $4,640,000 for migrant and seasonal housing, and $510,000 for other discretionary purposes * * *. ” The Conference Agreement includes a 0.65 percent across-the-board rescission to discretionary budgetary resources provided in divisions A through K of this Act, as well as to any previously enacted fiscal year 2003 advanced appropriations. A total of $72,213,541 for formula grants, and $4,609,840 for housing assistance, is allocated as a result of applying this requirement.

III. PY 2003 Allocation Formula. The first step of the formula for PY 2003 distributes the total formula funds of $72,213,541 based on the same relative share of eligible farmworkers derived from the combined datasets described above, which is unchanged from PY 2002. Congress, furthermore, in its Appropriations Conference Report 108-010, provided that those states impacted by formula reductions from the prior year would receive no less than 85 percent of their comparable 1998 allocation levels. Consequently, the amount for each State calculated in step one was compared to an amount equal to 85 percent of each State's PY 1998 allocation. If the 1998 comparison level was higher for a State, that amount was assigned to that State. All such States' assigned 1998 comparison levels were added and these States were removed from the remaining calculations. For the remaining States whose formula amounts were higher, their formula amounts were added and the total was compared to the total amount of remaining funds. Since there were less funds remaining available, each remaining State's formula amount was reduced by the same proportion the total remaining available funds bore to the total remaining States' formula amounts. This reduced distribution was again tested against the 1998 comparison level and the above process was repeated until there were no remaining States being assigned the 1998 comparison level. Each State's final allocation was either the assigned 1998 comparison level or the final proportionally reduced formula amount.

IV. State Combinations: We anticipate a single plan of service for operating the PY 2003 NFJP in the jurisdiction comprised of Delaware and Maryland and the jurisdiction comprised of Rhode Island and Connecticut.

V. Housing Assistance Allocations: The funds available for new grants to provide housing assistance to eligible farmworkers in PY 2003 will be awarded to applicants selected under the competition for the housing assistance grants. This notice provides information on how ETA will be guided in the geographic distribution of the housing assistance funds.

The Department is relying on the allocation formula to distribute the housing assistance funds among 12 agricultural regions. The arrangement of the regions is the one used by the Department in its application of the data from the National Agricultural Workers Survey (NAWS) to the allocation formula. These regions are identical to the regions established for the NAWS with the exception that the NAWS recognizes Oklahoma as one of the Southern Plains states. The 12 regions established for these allocation objectives are as follows:

Delta/South East: Alabama, Arkansas, Georgia, Louisiana, Mississippi, Oklahoma, and South Carolina.

North East 1: Connecticut, Maine, New Hampshire, New York, Rhode Island, Massachusetts, and Vermont.

Appalachia: Kentucky, North Carolina, Tennessee, West Virginia and Virginia.

Mountain 3: Arizona and New Mexico.

Northeast 2: Delaware, Maryland, New Jersey and Pennsylvania.

Lake District: Michigan, Minnesota and Wisconsin.

Pacific Southwest: California.

Florida Peninsula: Florida.

Southern Plains: Texas.

Mountain 1 & 2: Colorado, Idaho, Montana, Nevada, Utah and Wyoming.

Corn Belt/Northern Plains: Kansas, Illinois, Indiana, Iowa, Missouri, Nebraska, North Dakota, Ohio, and South Dakota.

Pacific Northwest: Oregon and Washington.

PY 2003 Allocations: The first table in the attachment provides the allocations for the NFJP in PY 2003. NFJP grantees will use these figures in preparing the PY 2003 grant plans. The result of the regional allocation of the housing assistance funds is provided in the second table, entitled “Worker Housing Assistance PY 2003/Regional Allocations”.

Signed in Washington, DC, this 11th day of April, 2003.
Emily Stover DeRocco,
Assistant Secretary, Employment and Training Administration.

BILLING CODE 4510-30-P

[FR Doc. 03-9520 Filed 4-16-03; 8:45 am]

BILLING CODE 4510-30-C